DEPARTMENT OF HEALTH AND HUMAN SERVICES

Administration for Children and Families

Submission for OMB Review; Comment Request

Title: Immediate Disaster Case Management (IDCM) Intake Assessment

OMB No.: 0970-NEW

Description: The Administration for Children and Families (ACF) seeks to collect information from disaster survivors following a Presidential Declaration of a disaster where Individual Assistance is approved. The information collection tool will promote: 1) efficient collection of information from disaster survivors, 2) centralization of information and resources to allow rapid connection to resources, and 3) improvement in the collection and output of key metrics that related to specific mission and disaster.

Respondents: Individuals who voluntarily enroll in the IDCM program.

Annual Burden Estimates
Instrument | Number of respondents | Number of responses per respondent | Average burden hours per response | Total burden hours
IDCM Intake Assessment | 3,500 | 1 | 40 Minutes | 140,000 Minutes.

Estimated Total Annual Burden Hours: 140,000 minutes

Additional Information:

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2015-20716 Filed 8-20-15; 8:45 am]

BILLING CODE 4184-01-P